SUSQUEHANNA RIVER BASIN COMMISSION

Projects Rescinded for Consumptive Uses of Water

AGENCY: Susquehanna River Basin Commission.

ACTION: Notice.

SUMMARY: This notice lists the approved by rule project rescinded by the Susquehanna River Basin Commission during the period set forth in DATES.

DATES: April 1-30, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued:

1. Ultra Resources, Inc., Pad ID: Brown #1 Pad Site, ABR-201510004, West Branch Township, Potter County, Pa., Rescind Date: April 24, 2017.

Authority: Pub. L. 91-575, 84 Stat. 1509 et seq., 18 CFR parts 806, 807, and 808.

Dated: May 16, 2017.
Stephanie L. Richardson,
Secretary to the Commission.

[FR Doc. 2017-10290 Filed 5-19-17; 8:45 am]

BILLING CODE 7040-01-P